DEPARTMENT OF AGRICULTURE

Forest Service

Notice of Central Idaho Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 110-343), the Salmon-Challis National Forest's Central Idaho Resource Advisory Committee will conduct a business meeting which is open to the public.

DATES: Monday, January 25, 2011, beginning at 10 a.m.

ADDRESSES: Salmon-Challis N.F. South Zone Office, Highway 93, Challis, Idaho.

SUPPLEMENTARY INFORMATION: Agenda topics will include, presentation of proposed projects, evaluation of some projects proposals, and approval and recommendation of some projects for Title II funding for 2011 and 2012. Some RAC members may attend the meeting by conference call, telephone, or electronically. The meeting is open to the public.

FOR FURTHER INFORMATION CONTACT: Frank V. Guzman, Forest Supervisor and Designated Federal Officer, at 208-756-5111.

Dated: January 5, 2011.
Frank V. Guzman,
Forest Supervisor, Salmon-Challis National Forest.

[FR Doc. 2011-320 Filed 1-10-11; 8:45 am]

BILLING CODE 3410-11-M